DEPARTMENT OF TRANSPORTATION

Pipeline and Hazardous Materials Safety Administration

49 CFR Parts 191 and 192

[Docket No. PHMSA-2016-0016; Amdt. Nos. 191-24; 192-122]

RIN 2137-AF22

Pipeline Safety: Safety of Underground Natural Gas Storage Facilities

AGENCY: Pipeline and Hazardous Materials Safety Administration (PHMSA); DOT.

ACTION: Interim final rule; reopening comment period.

SUMMARY: The Pipeline and Hazardous Materials Safety Administration (PHMSA) is announcing an additional opportunity for the public to comment on an interim final rule (IFR) titled: “Pipeline Safety: Underground Natural Gas Storage Facilities.” PHMSA is reopening the comment period in response to a petition for reconsideration filed jointly by the American Gas Association, American Petroleum Institute, and the American Public Gas Association. By reopening the comment period, PHMSA is providing all interested parties with the opportunity to comment on the IFR and the merits and claims of the petition. PHMSA will consider all public comments and address the petition for reconsideration in the final rule.

DATES: The comment period for the interim final rule published on December 19, 2016 (81 FR 91860), is reopened. Comments must be received by November 20, 2017.

ADDRESSES: You may submit comments identified by the docket number PHMSA-2016-0016 by any of the following methods:

• Federal eRulemaking Portal: http://www.regulations.gov. Follow the online instructions for submitting comments.

• Fax: 1-202-493-2251.

• Mail: Hand Delivery: U.S. DOT Docket Management System, West Building Ground Floor, Room W12-140, 1200 New Jersey Avenue SE., Washington, DC 20590-0001 between 9:00 a.m. and 5:00 p.m., Monday through Friday, except Federal holidays.

Instructions: If you submit your comments by mail, submit two copies. To receive confirmation that PHMSA received your comments, include a self-addressed stamped postcard.

Note: Comments are posted without changes or edits to http://www.regulations.gov, including any personal information provided. There is a privacy statement published on http://www.regulations.gov.

Privacy Act Statement

In accordance with 5 U.S.C. 553(c), DOT solicits comments from the public to better inform its rulemaking process. DOT posts these comments, without edit, including any personal information the commenter provides, to www.regulations.gov, as described in the system of records notice (DOT/ALL- 14 FDMS), which can be reviewed at www.dot.gov/privacy.

FOR FURTHER INFORMATION CONTACT: Byron Coy, Senior Technical Advisor, Pipeline Safety Policy and Programs, by telephone at 609-771-7810 or by email at byron.coy@dot.gov.

SUPPLEMENTARY INFORMATION: In December 2016, PHMSA issued an interim final rule (IFR) titled: “Pipeline Safety: Underground Natural Gas Storage Facilities” (81 FR 91860). In the IFR, PHMSA established minimum federal safety standards for intrastate and interstate underground natural gas storage facilities under its regulatory authority at 49 U.S.C. 60101 and 60102 and as directed by section 12 of the “Protecting our Infrastructure of Pipelines and Enhancing Safety Act of 2016.” On January 18, 2017, the American Gas Association, the American Petroleum Institute, the American Public Gas Association, and the Interstate Natural Gas Association of America (INGAA) jointly submitted a petition seeking reconsideration of certain provisions of the IFR. (INGAA has since withdrawn from the petition.)

Recognizing that the IFR set certain deadlines by which the operators of underground natural gas storage facilities must act but that would occur before PHMSA could adopt a final rule, PHMSA published a notice on June 20, 2017, in the Federal Register (82 FR 28224), announcing that (1) the agency would not issue enforcement citations to operators for non-compliance with certain provisions of the IFR for a period of one year after publication of the final rule, and (2) it intended to address the issues raised by the petitioners in the final rule. For these reasons, PHMSA is now providing the public with an additional opportunity to comment on the IFR and an opportunity to comment on the issues raised in the petition. PHMSA is therefore reopening the comment period for this IFR until November 20, 2017. All documents and comments related to this matter are available for review at http://www.regulations.gov in docket number PHMSA-2016-0016.

Issued in Washington, DC, on October 11, 2017, under authority delegated in 49 CFR 1.97.
Alan K. Mayberry,
Associate Administrator for Pipeline Safety.

[FR Doc. 2017-22553 Filed 10-18-17; 8:45 am]

BILLING CODE 4910-60-P